FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 011284-076.

Title: Ocean Carrier Equipment Management Association Agreement.

Parties: Alianca Navegacao e Logistica Ltda.; APL Co. Pte Ltd.; American President Lines, Ltd.; A.P. Moller-Maersk A/S; CMA CGM, S.A.; Atlantic Container Line; China Shipping Container Lines Co., Ltd; China Shipping Container Lines (Hong Kong) Co., Ltd.; COSCO Container Lines Company Limited; Evergreen Line Joint Service Agreement; Hamburg-Süd; Hapag-Lloyd AG; Hapag-Lloyd USA LLC; Ltd.; Hyundai Merchant Marine Co. Ltd.; Kawasaki Kisen Kaisha, Ltd.; Mediterranean Shipping Company, S.A.; Mitsui O.S.K. Lines Ltd.; Nippon Yusen Kaisha Line; Orient Overseas Container Line Limited; United Arab Shipping Co.; Yang Ming Marine Transport Corp.; and Zim Integrated Shipping Services, Ltd.

Filing Party: Jeffrey F. Lawrence, Esq. and Donald J. Kassilke, Esq.; Cozen O'Connor; 1200 Nineteenth Street NW., Washington, DC 20036.

Synopsis: The Amendment would add Wan Hai Lines Ltd. as a party to the Agreement. The parties have requested expedited review.

Agreement No.: 011463-012.

Title: East Coast North America to West Coast South America and Caribbean Cooperative Working Agreement.

Parties: Hamburg Sudamerikanische Dampfschifffahrts-Gesellschaft KG a/b/a CCNI; Hamburg-Sudamerikanische Dampfschifffahrts-Gesellschaft KG and Hapag-Lloyd AG.

Filing Party: Wayne R. Rohde, Esq.; Cozen O'Conner; 1200 Nineteenth Street NW., Washington, DC 20036.

Synopsis: The amendment would revise language in the agreement to change the notice required for a party to terminate the agreement.

Agreement No.: 012397.

Title: The National Shipping Company of Saudi Arabia (Bahri) and Rickmers-Linie GmbH & Cie. KG (Rickmers-Linie) Space Charter Agreement.

Parties: The National Shipping Company of Saudi Arabia and Rickmers-Linie GmbH & Cie. KG.

Filing Party: Wayne R. Rohde, Esq.; Cozen O'Connor LLP; 1200 Nineteenth St. NW., Washington, DC 200036.

Synopsis: The Agreement authorizes the parties to charter space from one another in the trade between the U.S. East and Gulf Coasts on the one hand, and Saudi Arabia, Egypt, Jordan, Kuwait, the United Arab Emirates, Iraq and Yemen on the other hand.

By Order of the Federal Maritime Commission.
Dated: March 25, 2016.
Rachel E. Dickon,
Assistant Secretary.

[FR Doc. 2016-07177 Filed 3-30-16; 8:45 am]

BILLING CODE 6731-AA-P